ENVIRONMENTAL PROTECTION AGENCY

[ER-FRL-9010-3]

Environmental Impacts Statements; Notice of Availability

Responsible Agency: Office of Federal Activities, General Information (202) 564-7146 or http://www.epa.gov/compliance/nepa/.

Weekly receipt of Environmental Impact Statements

Filed 07/15/2013 Through 07/19/2013

Pursuant to 40 CFR 1506.9.

Notice

Section 309(a) of the Clean Air Act requires that EPA make public its comments on EISs issued by other Federal agencies. EPA's comment letters on EISs are available at: http://www.epa.gov/compliance/nepa/eisdata.html.

EIS No. 20130213, Draft EIS, USFS, CA, Sugarloaf Hazardous Fuels Reduction Project, Comment Period Ends: 09/09/2013, Contact: Sharen Parker 530-534-6500.

EIS No. 20130214, Final Supplement, FHWA, WA, SR 167 Puyallup to SR 509, SR 167 Puyallup River Bridge Replacement, Review Period Ends: 08/26/2013, Contact: Dean Moberg 360-534-9344.

EIS No. 20130215, Second Draft Supplement, FHWA, WI, Wisconsin State Highway 23 Fond Du Lac to Plymouth—Project ID 1440-13/15-00 Limited Scope, Comment Period Ends: 09/30/2013, Contact: George Poirier 608-829-7500.

EIS No. 20130216, Draft EIS, FTA, WA, Lynnwood Link Extension, Comment Period Ends: 09/23/2013, Contact: Daniel Drais 206-220-7954.

EIS No. 20130217, Draft EIS, NPS, VA, Antietam National Battlefield, Monocacy National Battlefield and Manassas National Battlefield Park Draft White-tailed Deer Management Plan, Comment Period Ends: 09/27/2013, Contact: Tracy Atkins 303-969-2325.

EIS No. 20130218, Final EIS, USFWS, WA, Experimental Removal of Barred Owls to Benefit Threatened Northern Spotted Owls, Review Period Ends: 08/25/2013, Contact: Paul Henson 503-231-6179.

EIS No. 20130219, Final EIS, NPS, GA, Fort Pulaski National Monument General Management Plan and Wilderness Study, Review Period Ends: 08/26/2013, Contact: David Libman 404-507-5701.

EIS No. 20130220, Draft EIS, NPS, OH, Cuyahoga Valley National Park White-tailed Deer Management Plan, Comment Period Ends: 09/24/2013, Contact: Lisa Petit 440-546-5970.

EIS No. 20130221, Draft Supplement, BLM, CA, Palen Solar Electrical Generating System, Comment Period Ends: 10/24/2013, Contact: Frank McMenimen 760-833-7150.

EIS No. 20130222, Final EIS, BLM, CA, Ocotillo Sol Project, California Desert Conservation Area Plan Amendment, Review Period Ends: 08/26/2013, Contact: Noel Ludwig 951-697-5365.

EIS No. 20130223, Draft EIS, USACE, MO, St. Johns Bayou and New Madrid Floodway Project, Comment Period Ends: 09/09/2013, Contact: Joshua Koontz 901-544-3975.

EIS No. 20130224, Draft EIS, CALTRANS, CA, Ferguson Slide Permanent Restoration Project, Comment Period Ends: 09/26/2013, Contact: Scott Smith 559-445-6172.

EIS No. 20130225, Final EIS, USACE, CA, Salton Sea Species Conservation Habitat Project, Review Period Ends: 08/26/2013, Contact: Lanika Cervantes 760-602-4838.

Amended Notices

EIS No. 20130176, Draft EIS, APHIS, TX, Cattle Fever Tick Eradication Program—Tick Control Barrier, Comment Period Ends: 08/30/2013 Contact: Michelle Gray 301-851-3186.

Revision to FR Notice Published 06/21/2013; Extending Comment Period from 08/05/213 to 08/30/2013.

EIS No. 20130207, Draft EIS, FHWA, DC, Virginia Avenue Tunnel Reconstruction, Comment Period Ends: 09/25/2013, Contact: Michael Hicks 202-219-3513.

Revision to FR Notice Published 07/12/2013; Extending Comment Period from 08/26/2013 to 09/25/2013.

Dated: July 23, 2013.
Cliff Rader,
Director, NEPA Compliance Division, Office of Federal Activities.

[FR Doc. 2013-18059 Filed 7-25-13; 8:45 am]

BILLING CODE 6560-50-P